ENVIRONMENTAL PROTECTION AGENCY

[FRL-8769-4]

Science Advisory Board Staff Office; Notification of Upcoming Meeting of the Science Advisory Board Expert Elicitation Advisory Panel

AGENCY: Environmental Protection Agency (EPA).

ACTION: Notice.

SUMMARY: The Environmental Protection Agency (EPA or Agency) Science Advisory Board (SAB) Staff Office announces a public meeting of the Science Advisory Board Expert Elicitation Advisory Panel to review EPA's draft Expert Elicitation Task Force White Paper.

DATES: The meeting dates are Wednesday, February 25, 2009 from 9 a.m. to 5:30 p.m. through Thursday, February 26, 2009 from 9 a.m. to 1 p.m. (Eastern Time).

ADDRESSES: The meeting will be held in the SAB Conference Center, located at 1025 F Street, NW., Room 3705, Washington, DC 20004.

FOR FURTHER INFORMATION CONTACT: Members of the public who wish to obtain further information about this meeting may contact Dr. Angela Nugent, Designated Federal Officer (DFO). Dr. Nugent may be contacted at the EPA Science Advisory Board (1400F), U.S. Environmental Protection Agency, 1200 Pennsylvania Avenue, NW., Washington, DC 20460; or via telephone/voice mail; (202) 343-9981; fax (202) 233-0643; or e-mail at nugent.angela@epa.gov. General information about the EPA SAB, as well as any updates concerning the meeting announced in this notice, may be found on the SAB Web site at http://www.epa.gov/sab.

SUPPLEMENTARY INFORMATION: Pursuant to the Federal Advisory Committee Act, Public Law 92-463, notice is hereby given that the SAB Expert Elicitation Advisory Panel will hold a public meeting to review EPA's draft Expert Elicitation Task Force White Paper. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: EPA's Science Policy Council (SPC) formed the Expert Elicitation Task Force in April of 2005 to initiate a thorough discussion of Expert Elicitation, and to investigate how to conduct and use this method to support EPA regulatory and non-regulatory analyses and decision-making. The Task Force, with representation across EPA program offices and Regions, developed the Expert Elicitation Task Force White Paper. The White Paper discusses the potential utility of using expert elicitation to support EPA regulatory and non-regulatory analyses and decision-making, provides recommendations for expert elicitation “good practices” based on a review of the literature and actual experience within EPA and other federal agencies and describes steps for a broader application across EPA. EPA's Office of the Science Advisor has requested SAB review of EPA's draft Expert Elicitation Task Force White Paper to provide advice regarding the potential usefulness of expert elicitation, how to strengthen the scientific basis for its use, and the implications for possible implementation at EPA.

EPA's Science Advisory Board Staff Office formed the SAB Expert Elicitation Advisory Panel after announcing the advisory activity in the Federal Register on June 28, 2007 (72 FR 35463-35465) and requesting nominations of experts. Information on the panel and the advisory activities can be found on the SAB Web site at http://yosemite.epa.gov/sab/sabproduct.nsf/fedrgstr_activites/Expert%20Elicitation%20White%20Paper?OpenDocument. Availability of Meeting Materials: EPA's draft Expert Elicitation Task Force White Paper will be posted on the EPA Office of Science Advisor Web site at http://www.epa.gov/osa/spc/expertelicitation. The EPA technical contact for the draft Expert Elicitation Task Force White Paper is Mr. Robert Hetes, EPA Office of Research and Development. Mr. Hetes may be contacted by telephone at (919) 541-1589, or via e-mail at hetes.bob@epa.gov. The agenda and other material for the upcoming public meeting will be posted on the SAB Web site at http://www.epa.gov/sab.

Procedures for Providing Public Input: Interested members of the public may submit relevant written or oral information for the SAB Panel to consider on the topics included in this advisory activity and/or group conducting the activity. Oral Statements: In general, individuals or groups requesting an oral presentation at a public meeting will be limited to five minutes per speaker, with no more than a total of one hour for all speakers. Interested parties should contact Dr. Nugent, DFO, in writing (preferably via e-mail) at the contact information noted above, by February 18, 2009 to be placed on a list of public speakers for the meeting. Written Statements: Written statements should be received in the SAB Staff Office by February 18, 2009 so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Nugent at the phone number or e-mail address noted above, preferably at least ten days prior to the meeting to give EPA as much time as possible to process your request.

Dated: January 23, 2009.
Anthony F. Maciorowski,
Deputy Director, EPA Science Advisory Board Staff Office.

[FR Doc. E9-1919 Filed 1-28-09; 8:45 am]

BILLING CODE 6560-50-P